DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Proposed Project: National Evaluation of the Comprehensive Community Mental Health Services for Children and Their Families Program: Phase V—New

The Substance Abuse and Mental Health Services Administration (SAMHSA), Center of Mental Health is responsible for the national evaluation of the Comprehensive Community Mental Health Services for Children and Their Families Program that will collect data on child mental health outcomes, family life, and service system development and performance. Data will be collected on 25 service systems, and roughly 7,864 children and families.

The data collection for this evaluation will be conducted over a 5-year period. The core of service system data will be collected every 18 to 24 months throughout the 5-year evaluation period, with a sustainability survey conducted in selected years. Service delivery and system variables of interest include the following: maturity of system of care development, adherence to the system of care program model, and client service experience. The length of time that individual families will participate in the study ranges from 18 to 36 months depending on when they enter the evaluation. Child and family outcomes of interest will be collected at intake and during subsequent follow-up interviews at 6-month intervals. Client service experience information is collected at these follow-up interviews. Measures included in an outcome interview are determined by the type of assessment (intake or follow-up), child's age, and whether the respondent is the caregiver or a youth.

The outcome measures include the following: child symptomatology and functioning, family functioning, material resources, and caregiver strain. The caregiver interview package includes the Caregiver Information Questionnaire, Child Behavior Checklist, Behavioral and Emotional Rating Scale (BERS), Education Questionnaire, Columbia Impairment Questionnaire, Living Situations Questionnaire, Family Life Questionnaire, and Caregiver Strain Questionnaire (caregivers of children under age 6 complete the Vineland Screener to assess development, and do not complete the BERS) at intake, and also complete the Multi-service Sector Contacts Form, Culturally Competence and Service Provision Questionnaire and the Youth Services Survey (a national outcome measurement tool). The Youth Interview package includes the Youth Information Questionnaire, Revised Children's Manifest Anxiety Scale, Reynolds Depression Scale, BERS (youth version), Delinquency Survey, Substance Use Survey, GAIN-Quick: Substance Dependence Scale, and Youth Services Survey (youth version).

In addition, the evaluation will include two special studies: (1) An evidence-based practices study will examine provider use of evidence-based practices, community readiness and implementation of evidence-based practices, and consumer experience with these practices; (2) A cultural and linguistic competence study will examine the extent to which the cultural and linguistic characteristics of communities influence program implementation and provider adaptation of evidence-based treatments, and provider service delivery decisions based on provider culture and language. The national evaluation measures address the national outcome measures for mental health programs as currently established by SAMHSA.

Internet-based technology will be used for data entry and management, and for collecting data using Web-based surveys. The average annual respondent burden with detail provided about burden contributed by specific measures is estimated below. The estimate reflects the expected number of respondents in each respondent category, the total average number of responses per respondent over 5 years, the average length time it will take for each response, and the total average annual burden for each category of respondent and for all categories of respondents combined.

Estimate of Respondent Burden
[Note: Total burden is annualized over a 5-year period.]
Instrument | Respondent | Number of respondents | Total average number of responses per respondent | Hours per response | Total burden hours | 5 Year average annual burden hours
System-of-care Assessment:
Interview Guides and Data Collection Forms | Key site informants | 525 | 3 | 1.00 | 1,575 | 315
Interagency Collaboration Scale (IACS) | Key site informants | 525 | 3 | 0.13 | 210 | 42
Child and Family Outcome Study:
Caregiver Information Questionnaire (CIQ-IC) | Caregiver | 7,864 | 1 | 0.283 | 2,226 | 445
Caregiver Information Questionnaire Followup (CIQ-FC) | Caregiver | 7,864 | 5 | 0.200 | 7,864 | 1,573
Caregiver Strain Questionnaire (CGSQ) | Caregiver | 7,864 | 6 | 0.167 | 7,880 | 1,576
Child Behavior Checklist (CBCL)/Child Behavior Checklist 1½-5 (CBCL 11/2-5) | Caregiver | 7,864 | 6 | 0.333 | 15,712 | 3,142
Education Questionnaire-Revised (EQ-R) | Caregiver | 7,864 | 6 | 0.333 | 15,712 | 3,142
Living Situations Questionnaire (LSQ) | Caregiver | 7,864 | 6 | 0.083 | 3,916 | 783
The Family Life Questionnaire (FLQ) | Caregiver | 7,864 | 6 | 0.050 | 2,359 | 472
Behavioral and Emotional Rating Scale-Second Edition, Parent Rating Scale (BERS-2C) | Caregiver | 6,945 | 6 | 0.167 | 6,958 | 1,392
Columbia Impairment Scale (CIS) | Caregiver | 6,945 | 6 | 0.083 | 3,472 | 694
The Vineland Screener (VS) | Caregiver | 365 | 5 | 0.250 | 456 | 91
Delinquency Survey-Revised (DS-R) | Youth | 4,718 | 6 | 0.167 | 4,728 | 946
Behavioral and Emotional Rating Scale-Second Edition, Youth Rating Scale (BERS-2) | Youth | 4,718 | 6 | 0.167 | 4,728 | 946
Gain-Quick Substance Related Issues (Gain Quick-R) | Youth | 4,718 | 6 | 0.083 | 2,350 | 470
Substance Use Survey-Revised (SUS-R) | Youth | 4,718 | 6 | 0.100 | 2,831 | 566
Revised Children's Manifest Anxiety Scales (RCMAS) | Youth | 4,718 | 6 | 0.050 | 1,416 | 283
Reynolds Adolescent Depression Scale-Second Edition (RADS-2) | Youth | 4,718 | 6 | 0.050 | 1,416 | 283
Youth information Questionnaire-Baseline (YIQ-I) | Youth | 4,718 | 1 | 0.167 | 788 | 158
Youth information Questionnaire-Follow-up (YIQ-F) | Youth | 4,718 | 5 | 0.167 | 3,940 | 788
Service Experience Study:
Multi-Sector Service Contacts-Revised (MSSC-R) | Caregiver | 7,864 | 5 | 0.250 | 9,830 | 1,966
Evidence-Based Practice Measure (EBPEM) | Caregiver | 7,864 | 5 | 0.167 | 6,553 | 1,311
Cultural Competence and Service Provision Questionnaire (CCSP) | Caregiver | 7,864 | 5 | 0.167 | 6,553 | 1,311
Youth Services Survey-Family (YSS-F) | Caregiver | 7,864 | 5 | 0.117 | 4,600 | 920
Youth Services Survey (YSS) | Youth | 4,718 | 5 | 0.083 | 1,958 | 392
Evidence-Based Practices Study
Evidence-Based Practices Survey-Revised (EBP-R) | Provider | 1,125 | 3 | 0.333 | 1,124 | 224
Evidence-Based Provider Attitudes Survey (EBPAS) | Provider | 1,125 | 3 | 0.083 | 280 | 56
Organizational Readiness for Change Scale-Staff (ORC-S) | Provider | 1,125 | 3 | 0.417 | 1,407 | 281
Organizational Readiness for Change Scale-Program Director (ORC-D) | Administrator/Manager | 75 | 3 | 0.417 | 94 | 19
Sustainability Study:
Sustainability Survey—Caregiver | Caregiver | 25 | 3 | 0.500 | 38 | 8
Sustainability Survey—Provider | Provider/Administrator | 75 | 3 | 0.500 | 112 | 23

Summary of Annualized Burden Estimates for 5 Years
| Number of distinct respondents | Number of response per respondent | Average nurden per response (hours) | Total average annual burden (hours)
Caregivers | 7,864 | 76 | 2.30 | 94,130
Youth | 4,718 | 36 | 0.71 | 17,468
Providers/Administrators | 1,725 | 21 | 0.93 | 4,803
Total Summary | 14,307 | 133 |  | 116,401
Total Annual Average Summary | 2,861 | 27 |  | 23,280

Written comments and recommendations concerning the proposed information collection should be sent by July 27, 2006 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: June 17, 2006.
Anna Marsh,
Director, Office of Program Services.

[FR Doc. E6-10088 Filed 6-26-06; 8:45 am]

BILLING CODE 4162-20-P